GENERAL SERVICES ADMINISTRATION

48 CFR Part 501

[GSAR Case 2021-G516 Docket No. 2021-0010; Sequence No. 1]

RIN 3090-AK38

General Services Administration Acquisition Regulation (GSAR); Update to OMB Approval Table for Information Collections

AGENCY: Office of Acquisition Policy, General Services Administration (GSA).

ACTION: Direct final rule.

SUMMARY: The General Services Administration (GSA) is issuing a direct final rule to amend the General Services Administration Acquisition Regulation (GSAR) to update and make technical corrections to the table of approved acquisition related information collections from the Office of Management and Budget (OMB) under the Paperwork Reduction Act.

DATES: This direct final rule is effective on June 22, 2021 without further notice unless adverse comments are received by May 24, 2021. If GSA receives adverse comments, we will publish a timely withdrawal in the Federal Register informing the public that the rule will not take effect.

ADDRESSES: Submit comments in response to GSAR Case 2021-G516 to: Regulations.gov: https://www.regulations.gov. Submit comments via the Federal eRulemaking portal by searching for “GSAR Case 2021-G516”. Select the link “Comment Now” that corresponds with GSAR Case 2021-G516. Follow the instructions provided at the “Comment Now” screen. Please include your name, company name (if any), and “GSAR Case 2021-G516” on your attached document.

Instructions: Please submit comments only and cite GSAR Case 2021-G516, in all correspondence related to this case. Comments received generally will be posted without change to https://www.regulations.gov, including any personal and/or business confidential information provided. To confirm receipt of your comment(s), please check https://www.regulations.gov, approximately two-to-three days after submission to verify posting.

FOR FURTHER INFORMATION CONTACT: Ms. Megan Hackett, GSA Acquisition Policy Division, at gsarpolicy@gsa.gov, for clarification of content. For information pertaining to status or publication schedules, contact the Regulatory Secretariat at 202-501-4755. Please cite GSAR Case 2021-516.

SUPPLEMENTARY INFORMATION:

I. Background

The Paperwork Reduction Act of 1980 (44 U.S.C. 35, et seq.) imposes a requirement on Federal agencies to obtain approval from the Office of Management and Budget (OMB) before collecting information from 10 or more members of the public. The General Services Acquisition Regulation (GSAR) at 501.106 includes a table that identifies all OMB approved control numbers for GSA and the FAR that are applicable to GSA acquisition requirements. As part of the regulatory review process, GSA realized that the table required updates and corrections. GSA is amending the GSAR to update this table at 501.106 so the information included is correct.

II. Authority for This Rulemaking

Title 40 of the United States Code (U.S.C.) Section 121 authorizes GSA to issue regulations, including the GSAR, to control the relationship between GSA and contractors.

III. Discussion and Analysis

In the process of updating the table at 501.106, several things had to be removed. There were seven instances in the table where the GSAR reference no longer existed or the OMB control number referenced had expired. Therefore, seven rows will be removed from the table. Also, in two instances the GSAR reference in the left column was edited to reflect the correct location. For example, removing the paragraph citation to change the GSAR reference from 509.105(a) to 509.105.

Next, several missing items had to be added to the table. There were six instances where approved information collections for existing GSAR provisions were not included in the table. This necessitated the addition of six new rows. Also, there were two instances where an existing GSAR reference applied to more than one information collection, but the additional information collections were missing from the table. These two missing OMB control numbers were added to the applicable row in the table.

Lastly, the format of the table was edited to standardize the information. In two places the information collections for a given GSAR reference were listed in multiple rows. These information collections were combined into one row for the GSAR reference to match the rest of the table. Additionally, in one place the word “and” was taken out of a list of control numbers to standardize the format of the table.

IV. Executive Orders 12866 and 13563

Executive Orders (E.O.s) 12866 and 13563 direct agencies to assess all costs and benefits of available regulatory alternatives and, if regulation is necessary, to select regulatory approaches that maximize net benefits (including potential economic, environmental, public health and safety effects, distributive impacts, and equity). E.O. 13563 emphasizes the importance of quantifying both costs and benefits, of reducing costs, of harmonizing rules, and of promoting flexibility. This rule has been reviewed and determined by OMB not to be a significant regulatory action and, therefore, was not subject to review under section 6(b) of E.O. 12866, Regulatory Planning and Review, dated September 30, 1993.

V. Congressional Review Act

The Congressional Review Act, 5 U.S.C. 801 et seq., as amended by the Small Business Regulatory Enforcement Fairness Act of 1996, generally provides that before a “major rule” may take effect, the agency promulgating the rule must submit a rule report, which includes a copy of the rule, to each House of the Congress and to the Comptroller General of the United States. A major rule cannot take effect until 60 days after it is published in the Federal Register. This rule has been reviewed and determined by OMB not to be a “major rule” under 5 U.S.C. 804(2).

VI. Regulatory Flexibility Act

The General Services Administration certifies that this direct final rule will not have a significant economic impact on a substantial number of small entities within the meaning of the Regulatory Flexibility Act, 5 U.S.C. 601, et seq., because this rule is updating references for existing information collections that are not changed.

VII. Paperwork Reduction Act

The Paperwork Reduction Act (44 U.S.C. chapter 35) does apply; however these changes to the GSAR do not impose additional information collection requirements to the paperwork burdens previously approved by the Office of Management and Budget.

List of Subjects in 48 CFR Part 501

Government procurement.

Jeffrey A. Koses,
Senior Procurement Executive, Office of Acquisition Policy, Office of Government-wide Policy, General Services Administration.

Therefore, GSA amends 48 CFR part 501 as set forth below:

PART 501—GENERAL SERVICES ADMINISTRATION ACQUISITION REGULATION SYSTEM

1. The authority citation for 48 CFR part 501 continues to read as follows:

Authority: 40 U.S.C. 121(c).

2. Revise section 501.106 to read as follows:

501.106 OMB approval under the Paperwork Reduction Act.

The Paperwork Reduction Act of 1980 (44 U.S.C. 35, et seq.) imposes a requirement on Federal agencies to obtain approval from the Office of Management and Budget (OMB) before collecting information from 10 or more members of the public. The information collection and recordkeeping requirements contained in this section have been approved by the OMB. This table includes OMB approved control numbers from GSA (3090 series) and the Federal Acquisition Regulations (FAR) (9000 series) that are applicable to GSA acquisition requirements. The following OMB control numbers apply:

Table 1 to 501.106
GSAR reference | OMB control No.
509.105-1 | 3090-0007
511.204(c) | 3090-0246
512.301 | 3090-0163
514.201-1 | 3090-0163
515.209-70(b) | 3090-0163
515.408 | 3090-0235
516.506 | 3090-0248
523.370 | 3090-0205
532.905-70 | 3090-0080
538.273 | 3090-0163, 3090-0235, 3090-0250, 3090-0262, 3090-0303, 3090-0306
542.1107 | 3090-0027
546.302-71 | 3090-0027
552.211-13(a) | 9000-0026
552.211-70(b) | 9000-0058
552.211-77 | 3090-0246
552.215-73 | 3090-0163
552.216-70 | 3090-0235
552.216-72 | 3090-0248
552.216-73 | 3090-0248
552.216-75 | 3090-0306
552.223-72 | 3090-0205
552.232-5 | 3090-0080, 9000-0070, 9000-0102
552.232-72 | 3090-0080
552.236-15 | 9000-0058
552.236-72 | 3090-0308
552.236-79 | 3090-0320
552.236-80 | 9000-0034
552.238-72 | 3090-0163
552.238-73 | 3090-0250
552.238-78 | 3090-0262
552.238-80 | 3090-0235, 3090-0306
552.238-81 | 3090-0235, 3090-0306
552.238-82 | 3090-0302
552.238-84 | 3090-0303
552.238-85 | 3090-0303
552.238-87 | 3090-0303
552.238-95 | 3090-0303
552.238-96 | 3090-0303
552.238-97 | 3090-0303
552.238-99 | 3090-0303
552.238-111 | 3090-0303
552.239-70 | 3090-0300
552.239-71 | 3090-0300
552.242-70 | 3090-0027
552.246-70 | 3090-0027
552.246-71 | 3090-0027
570.802(b) | 3090-0086
570.802(c) | 3090-0086
GSA-527 | 3090-0007
GSA-1142 | 3090-0080
GSA-1217 | 3090-0086
GSA-1364 | 3090-0086
GSA-1678 | 3090-0027
GSA-2419 | 9000-0102

[FR Doc. 2021-08422 Filed 4-22-21; 8:45 am]

BILLING CODE 6820-61-P